DEPARTMENT OF HEALTH AND HUMAN SERVICES

Food and Drug Administration

[Docket No. FDA-2010-N-0168]

Developing Guidance on Naming, Labeling, and Packaging Practices to Reduce Medication Errors; Public Workshop; Change of Meeting Location

AGENCY: Food and Drug Administration, HHS.

ACTION: Notice.

SUMMARY: The Food and Drug Administration (FDA) is announcing a change in location for the upcoming public workshop entitled “Developing Guidance on Naming, Labeling, and Packaging Practices to Reduce Medication Errors.” A new address is given for those attending the workshop.

DATES: The public workshop will be held on Thursday and Friday, June 24 and 25, 2010, from 8:30 a.m. to 5 p.m. each day.

ADDRESSES: The public workshop will be held at the Holiday Inn College Park, 10000 Baltimore Ave., College Park, MD 20740.

FOR FURTHER INFORMATION CONTACT: Colleen O'Malley, Center for Drug Evaluation and Research, Food and Drug Administration, 10903 New Hampshire Ave., Bldg. 22, rm. 4305, Silver Spring, MD 20993-0002, 301-796-1786, FAX: 301-796-9832, e-mail: colleen.omalley@fda.hhs.gov.

SUPPLEMENTARY INFORMATION:

I. Background

In the Federal Register of April 12, 2010 (75 FR 18514), FDA issued a notice announcing a public workshop that is intended to assist the agency in developing draft guidance for industry on describing practices for naming, labeling, and packaging drugs and biologics to reduce medication errors. The April 12, 2010, notice invited individuals interested in presenting to the panelists to register by May 25, 2010. Registration to present at the workshop is closed. All others are welcome to attend on a first-come, first-served basis.

Because of a greater than anticipated response for attending the public workshop, FDA is announcing in this notice a new location.

II. New Location for the Public Workshop

The new location will be the Holiday Inn College Park (see ADDRESSES). Directions and information on parking, accommodations, and transportation options can be found at www.holidayinncollegepark.com.

Dated: June 8, 2010.
Leslie Kux,
Acting Assistant Commissioner for Policy.

[FR Doc. 2010-14153 Filed 6-11-10; 8:45 am]

BILLING CODE 4160-01-S